SMALL BUSINESS ADMINISTRATION

13 CFR Ch. I

Semiannual Regulatory Agenda

AGENCY: U.S. Small Business Administration (SBA).

ACTION: Semiannual Regulatory Agenda.

SUMMARY: This semiannual Regulatory Agenda (Agenda) is a summary of current and projected rulemakings and completed actions of the Small Business Administration (SBA or Agency). This summary information enables the public to be more aware of, and effectively participate in, SBA's regulatory activities. Accordingly, SBA invites the public to submit comments on any aspect of this Agenda.

FOR FURTHER INFORMATION CONTACT:

General

Please direct general comments or inquiries to Lindsey K. McCready, U.S. Small Business Administration, 409 Third Street SW, Washington, DC 20416; (202) 401-2996; lindsey.mccready@sba.gov; or Kevin P. Ross, U.S. Small Business Administration, 409 Third Street SW, Washington, DC 20416; (202) 772-2065; kevin.ross@sba.gov.

Specific

Please direct specific comments and inquiries on individual regulatory activities identified in this Agenda to the individual listed in the summary of the regulation as the point of contact for that regulation.

SUPPLEMENTARY INFORMATION: The Regulatory Flexibility Act (RFA) requires SBA to publish in the Federal Register a semiannual regulatory flexibility agenda describing those Agency rules that are likely to have a significant economic impact on a substantial number of small entities (5 U.S.C. 602). The summary information published in the Federal Register is limited to those rules. Additional information regarding all of the rulemakings SBA expects to consider in the next 12 months is included in the Federal Government's Unified Regulatory Agenda, which will be available online at www.reginfo.gov in a format that offers users enhanced ability to obtain information about SBA's rules.

Isabella Casillas Guzman,
Administrator.

Small Business Administration—Proposed Rule Stage
Sequence No. | Title | Regulation Identifier No.
459 | Affiliation in Small Business Procurement Programs | 3245-AH97
460 | Regulatory Reform Initiative: Streamlining and Modernizing the Surety Bond Guarantee Program | 3245-AI06
461 | Export Working Capital Program | 3245-AI07
462 | Disaster Assistance Loan Program Changes to Unsecured Loan Amounts | 3245-AI08

Small Business Administration—Final Rule Stage
Sequence No. | Title | Regulation Identifier No.
463 | Small Business Size Standards: Adjustment of Alternative Size Standard for SBA's 7(a) and CDC/504 Loan Programs for Inflation; and Surety Bond Limits: Adjustments for Inflation | 3245-AG16
464 | Small Business Timber Set-Aside Program | 3245-AG69

Small Business Administration—Completed Actions
Sequence No. | Title | Regulation Identifier No.
465 | Small Business Development Center Program Revisions | 3245-AE05
466 | National Defense Authorization Act of 2020, Credit for Lower Tier Subcontracting and Other Amendments | 3245-AH28
467 | Small Business Size Standards: Adjustment of Monetary Based Size Standards, Disadvantage Thresholds, and 8(a) Eligibility Thresholds for Inflation | 3245-AH93

SMALL BUSINESS ADMINISTRATION (SBA)

Proposed Rule Stage

459. Affiliation in Small Business Procurement Programs [3245-AH97]

Legal Authority: 15 U.S.C. 632(a)

Abstract: Following revisions to the requirements in SBA's 8(a) Business Development and Service-Disabled Veteran-Owned Small Business programs, SBA is issuing conforming revisions to its affiliation rules that govern all of the small-business procurement programs. These revisions will ensure consistent requirements for ownership and control across SBA's procurement programs.

Timetable:

Action | Date | FR Cite
NPRM | 10/00/24 |

Regulatory Flexibility Analysis Required: Yes.

Agency Contact: Sam Le, Director of Policy, Planning, and Liaison, Small Business Administration, 409 3rd Street SW, Washington, DC 20416, Phone: 202 619-1789, Email: sam.le@sba.gov.

RIN: 3245-AH97

460. • Regulatory Reform Initiative: Streamlining and Modernizing the Surety Bond Guarantee Program [3245-AI06]

Legal Authority: 15 U.S.C. 694(b)

Abstract: The Office of Surety Guarantees (OSG) will publish a Notice of Proposed Rulemaking (NPRM) to receive comments from the public and surety industry regarding streamlining and modernizing the Surety Bond Guarantee Program. This proposed rule will reduce the file retainage and form submission burden of participating surety companies, correct conflicting provisions, as well as revise the obsolete preferred surety admissions requirements and the Quarterly Contract Completion Report.

Timetable:

Action | Date | FR Cite
NPRM | 01/00/24

Regulatory Flexibility Analysis Required: Yes.

Agency Contact: Jermaine Perry, Director, Office of Surety Guarantees, Small Business Administration, 409 3rd Street SW, Washington, DC 20416, Phone: 202 401-8275, Email: jermaine.perry@sba.gov.

RIN: 3245-AI06

461. • Export Working Capital Program [3245-AI07]

Legal Authority: 15 U.S.C. 636(a)

Abstract: SBA will publish a notice of proposed rulemaking to enhance the Export Working Capital Program (EWCP). The revisions concern (1) increasing the maximum maturity on an EWCP loan from 3-years to 5-years; (2) changing the regulations to allow EWCP loan proceeds to be used to finance export transactions or support companies who engage in export transactions by providing working capital against their accounts receivable and inventory; (3) allowing use of proceeds for asset-based working capital secured by inventory and accounts receivable; (4) including a de minimis amount of domestic accounts receivable (not to exceed 30%) for EWCP loans used as an asset based line of credit; (5) allow Applicants to submit projections to support the need for facilities supporting pre-shipment working capital; (6) revise the unique requirements for the EWCP to align with industry standards for asset based lending.

Timetable:

Action | Date | FR Cite
NPRM | 01/00/24

Regulatory Flexibility Analysis Required: Yes.

Agency Contact: Daniel Pische, National Director of Trade Finance, Office of International Trade, Small Business Administration, 409 Third Street SW, Washington, DC 20416, Phone: 202 321-5666, Email: daniel.pische@sba.gov.

RIN: 3245-AI07

462. • Disaster Assistance Loan Program Changes to Unsecured Loan Amounts [3245-AI08]

Legal Authority: 15 U.S.C. 636(b)

Abstract: SBA will publish a notice of proposed rulemaking in order to receive comments from the public regarding the proposal to increase the unsecured loan amounts for disaster survivors.

Timetable:

Action | Date | FR Cite
NPRM | 02/00/24

Regulatory Flexibility Analysis Required: Yes.

Agency Contact: Dianna L. Seaborn, Director, Office of Financial Assistance, Small Business Administration, 409 Third Street SW, Washington, DC 20416, Phone: 202 205-3645, Email: dianna.seaborn@sba.gov.

RIN: 3245-AI08

SMALL BUSINESS ADMINISTRATION (SBA)

Final Rule Stage

463. Small Business Size Standards: Adjustment of Alternative Size Standard for SBA's 7(a) and CDC/504 Loan Programs for Inflation; and Surety Bond Limits: Adjustments for Inflation [3245-AG16]

Legal Authority: Pub. L. 111-240, sec. 1116

Abstract: SBA proposes amending its size eligibility criteria for Business Loans, certified development company (CDC) loans under title V of the Small Business Investment Act (504) and economic injury disaster loans (EIDL). For the SBA 7(a) Business Loan Program and the 504 program, the amendments will provide an alternative size standard for loan applicants that do not meet the small business size standards for their industries. The Small Business Jobs Act of 2010 (Jobs Act) established alternative size standards that apply to both of these programs until SBA's Administrator establishes other alternative size standards. For the disaster loan program, the amendments will provide an alternative size standard for loan applicants that do not meet the Small Business Size Standard for their industries. SBA loan program alternative size standards do not affect other Federal Government programs, including Federal procurement.

Timetable:

Action | Date | FR Cite
ANPRM | 03/22/18 | 83 FR 12506
ANPRM Comment Period End | 05/21/18
NPRM | 07/28/23 | 88 FR 48739
NPRM Comment Period End | 09/26/23
Final Rule | 01/00/24

Regulatory Flexibility Analysis Required: Yes.

Agency Contact: Dr. Khem Raj Sharma, Chief, Office of Size Standards, Small Business Administration, 409 Third Street SW, Washington, DC 20416, Phone: 202 205-7189, Fax: 202 205-6390, Email: khem.sharma@sba.gov.

RIN: 3245-AG16

464. Small Business Timber Set-Aside Program [3245-AG69]

Legal Authority: 15 U.S.C. 631; 15 U.S.C. 644(a)

Abstract: The U.S. Small Business Administration (SBA or Agency) is amending its Small Business Timber Set-Aside Program (the Program) regulations. The Small Business Timber Set-Aside Program is rooted in the Small Business Act, which tasked SBA with ensuring that small businesses receive a fair proportion of the total sales of government property. Accordingly, the Program requires Timber sales to be set aside for small business when small business participation falls below a certain amount. SBA considered comments received during the Advance Notice of Proposed Rulemaking and Notice of Proposed Rulemaking processes, including on issues such as, but not limited to, whether the saw timber volume purchased through stewardship timber contracts should be included in calculations, and whether the appraisal point used in set-aside sales should be the nearest small business mill. In addition, SBA is considering data from the timber industry to help evaluate the current program and economic impact of potential changes.

Timetable:

Action | Date | FR Cite
ANPRM | 03/25/15 | 80 FR 15697
ANPRM Comment Period End | 05/26/15
NPRM | 09/27/16 | 81 FR 66199
NPRM Comment Period End | 11/28/16
Final Rule | 03/00/24

Regulatory Flexibility Analysis Required: Yes.

Agency Contact: Sam Le, Director of Policy, Planning, and Liaison, Small Business Administration, 409 3rd Street SW, Washington, DC 20416, Phone: 202 619-1789, Email: sam.le@sba.gov.

RIN: 3245-AG69

SMALL BUSINESS ADMINISTRATION (SBA)

Completed Actions

465. Small Business Development Center Program Revisions [3245-AE05]

Legal Authority: 15 U.S.C. 634(b)(6); 15 U.S.C. 648

Abstract: This rule proposes to update the Small Business Development Center (SBDC) program regulations by proposing to: (1) streamline and make the application process less onerous for recipient organizations; (2) codify current practices required under the NOFO and Cooperative Agreement; (3) clarify and define the role of the District Office regarding grant oversight; (4) add and clarify definitions; and (5) clarify SBDC client confidentiality.

Completed:

Reason | Date | FR Cite
Public Meeting | 07/18/23 | 88 FR 41459
Final Rule | 11/07/23 | 88 FR 76625
Final Rule Effective | 12/07/23

Regulatory Flexibility Analysis Required: Yes.

Agency Contact: Rachel Newman-Karton, Phone: 202 619-1816, Email: rachel.newman-karton@sba.gov.

RIN: 3245-AE05

466. National Defense Authorization Act of 2020, Credit for Lower Tier Subcontracting and Other Amendments [3245-AH28]

Legal Authority: Pub. L. 116-92

Abstract: Section 870 of the National Defense Authorization Act of 2020 (NDAA 2020) made a change that will require SBA to amend its regulations. Specifically, the language of NDAA 2020 requires SBA to alter the method and means of accounting for lower tier small business subcontracting. This proposed rule may also contain several smaller changes that might be necessary to implement this provision and other provisions in NDAA 2020.

Completed:

Reason | Date | FR Cite
Final Rule | 10/11/23 | 88 FR 11303
Final Rule Effective | 11/13/23

Regulatory Flexibility Analysis Required: Yes.

Agency Contact: Brenda J. Fernandez, Phone: 202 205-7337, Email: brenda.fernandez@sba.gov.

RIN: 3245-AH28

467. Small Business Size Standards: Adjustment of Monetary Based Size Standards, Disadvantage Thresholds, and 8(a) Eligibility Thresholds for Inflation [3245-AH93]

Legal Authority: 15 U.S.C. 632(a); 15 U.S.C. 637(a)(6)(A)

Abstract: SBA intends to issue this rulemaking to adjust its monetary small business size standards (i.e., receipts, net income, net worth, and financial assets) for the effects of inflation that have occurred since the last inflation adjustment, which was effective on August 19, 2019. SBA is required by its regulations in 13 CFR 121.102(c) to review the effects of inflation on its monetary standards at least once every five years. As in previous adjustments, SBA will apply the Gross Domestic Product (GDP) price index as a measure of inflation. This action will restore small business eligibility to businesses that have lost that status due to inflation.

In addition, SBA intends to adjust other monetary thresholds in its regulations that are otherwise not adjusted for inflation under FAR 1.109. These thresholds primarily are those used in the 8(a) Business Development and the Economically Disadvantaged Women-Owned Small Business (EDWOSB) programs to determine economic disadvantage. Others are used to maintain eligibility for the 8(a) program. In some cases, these thresholds have not been adjusted for 25 years. This action will permit small businesses to retain eligibility as economically disadvantaged and eligible for the 8(a) program, despite an increase in inflation.

SBA will publicize the rule via the Small Business Procurement Advisory Council, the Integrated Acquisition Environment, fbo.gov, press releases, publication of this rule in the Federal Register, emails to interested parties, and the size standards website at www.sba.gov/size.

Completed:

Reason | Date | FR Cite
Final Rule | 07/19/23 | 88 FR 46048

Regulatory Flexibility Analysis Required: Yes.

Agency Contact: Khem Raj Sharma,Phone: 202 205-7189,Fax: 202 205-6390,Email: khem.sharma@sba.gov.

RIN: 3245-AH93

[FR Doc. 2024-00460 Filed 2-8-24; 8:45 am]

BILLING CODE 8026-03-P